DEPARTMENT OF ENERGY

Privacy Act of 1974; Notice To Amend an Existing System of Records

AGENCY: U.S. Department of Energy.

ACTION: Notice.

SUMMARY: As required by the Privacy Act of 1974, 5 U.S.C. 552a, and the Office of Management and Budget (OMB) Circular A-130, the Department of Energy (DOE) is publishing notice of a proposed amendment to an existing system of records. DOE proposes to amend the system of records DOE-3 “Employee Concerns Program Records.” This notice (i) will expand an existing routine use to permit the disclosure of certain information to the Nuclear Regulatory Commission, and (ii) add an additional system location.

DATES: The proposed amendment to this existing system of records will become effective without further notice on October 2, 2009 unless DOE receives adverse comments and determines that this amendment should not become effective on that date.

ADDRESSES: Written comments should be directed to William A. Lewis, Jr., Deputy Director, Office of Civil Rights and Diversity, ED-4, U.S. Department of Energy, 1000 Independence Ave., SW., Washington, DC 20585.

FOR FURTHER INFORMATION CONTACT: Jerry Hanley, Chief Privacy Officer, Office of Information Resources, MA-90, U.S. Department of Energy, 1000 Independence Avenue, SW., Washington, DC 20585, (202) 586-5955; Isiah Smith, Deputy Assistant General Counsel for General Law, GC-77, U.S. Department of Energy, 1000 Independence Ave., SW., Washington, DC 20585, (202) 586-8618; William A. Lewis, Jr., Deputy Director, Office of Civil Rights and Diversity, ED-4, U.S. Department of Energy, 1000 Independence Ave., SW., Washington, DC 20585, (202) 586-6530.

SUPPLEMENTARY INFORMATION: This notice proposes two amendments to DOE-3 Employee Concerns Program Records. The first amendment concerns Routine Use # 5, which allows a record to be disclosed as a routine use to DOE contractors in the performance of their contracts and to their respective officers and employees who have a need for the record in the performance of their duties. This notice proposes to add a similar sentence allowing a record to be disclosed as a routine use to the Nuclear Regulatory Commission and its respective officers and employees who have a need for the record in the performance of their duties. Disclosure to the NRC is pursuant to the NRC's regulatory oversight over some of DOE's activities and is compatible with the purpose for which the information is being collected and maintained, i.e., to ensure that DOE provides an avenue through which DOE workers may raise concerns relating to the safe and sound operation of DOE facilities. The second amendment adds the following system location: U.S. Department of Energy, Bonneville Power Administration, P.O. Box 3621, Portland, OR 97208. DOE is submitting the report required by OMB Circular A-130 concurrently with the publication of this notice. The text of this notice contains information required by the Privacy Act, 5 U.S.C. 552a(e)(4).

Issued in Washington, DC, on August 11, 2009.
Ingrid Kolb,
Director, Office of Management and Budget.

DOE-3

SYSTEM NAME:

Employee Concerns Program Records.

SECURITY CLASSIFICATION:

Unclassified.

SYSTEM LOCATION(S):

U.S. Department of Energy, Headquarters, 1000 Independence Avenue, SW., Washington, DC 20585.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, Office of Science, Chicago Office, 9800 South Cass Avenue, Argonne, IL 60439.

U.S. Department of Energy, Idaho Operations Office, 1955 Fremont Avenue, Idaho Falls, ID 83415.

U.S. Department of Energy, NNSA Nevada Site Office, P.O. Box 98518, Las Vegas, NV 89193-8518.

U.S. Department of Energy, National Energy Technology Laboratory, P.O. Box 10940, 626 Cochrans Mill Road, Pittsburgh, PA 15236.

U.S. Department of Energy, National Energy Technology Laboratory (Morgantown), P.O. Box 880, Morgantown, WV 26507-0880.

U.S. Department of Energy, National Energy Technology Laboratory (Tulsa), One West Third Street, Suite 1400.

U.S. Department of Energy, National Energy Technology Laboratory (Alaska) 2175 University Avenue South, Suite 201, Fairbanks, AK 99709.

U.S. Department of Energy, National Energy Technology Laboratory, 1450 Queen Avenue, SW., Albany, OR 97321-2198.

U.S. Department of Energy, Office of Science, Oak Ridge Office, P.O. Box 2001, Oak Ridge, TN 37831.

U.S. Department of Energy, Environmental Management Consolidated Business Center (EMCBC), 250 E. Fifth Street, Cincinnati, OH 45202.

U.S. Department of Energy, Office of River Protection, P.O. Box 550, MS A1-61, Richland, WA 99352.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Strategic Petroleum Reserve Project Management Office, 900 Commerce Road East, New Orleans, LA 70123.

U.S. Department of Energy, Southwestern Power Administration, Williams Tower One, One West Third Street, Tulsa, OK 74103.

U.S. Department of Energy, Western Area Power Administration, P.O. Box 281213, Lakewood, CO 80228-8213.

U.S. Department of Energy, Bonneville Power Administration, P.O. Box 3621 Portland, OR 97208.

CATEGORIES OF INDIVIDUALS COVERED BY THE SYSTEM:

Current and former DOE employees including National Nuclear Security Administration (NNSA) employees and DOE contractor and subcontractor employees who file concerns or complaints with the DOE Employee Concerns Program offices.

CATEGORIES OF RECORDS IN THE SYSTEM:

Employee concerns, informal whistleblower reprisal complaints, names, social security numbers, work and home addresses and telephone numbers, job titles, series, grade or pay levels; organization; supervisors' names and telephone numbers; copies of employee records such as personnel actions, performance appraisals, pay and leave records and security clearance documents; management reports; witness statements; affidavits; checklists; notes; and relevant correspondence.

AUTHORITY FOR MAINTENANCE OF THE SYSTEM:

42 U.S.C. 7101 et seq.; 50 U.S.C. 2401 et seq.; 42 U.S.C. 2201(p); 42 U.S.C. 7254; 42 U.S.C. 5801(a).

RETRIEVABILITY:

Records are retrieved by name and/or Social Security number.

PURPOSE(S):

For those records described in Categories of Records in the System, such records are maintained and used by the Department to document and resolve employee concerns about environmental, safety and health issues, employee-supervisor relations, work processes and practices, and other work-related issues.

ROUTINE USES OF RECORDS MAINTAINED IN THE SYSTEM, INCLUDING CATEGORIES USERS AND THE PURPOSES OF SUCH USES:

1. A record from this system may be disclosed as a routine use to union officials acting in their official capacity as a representative of the grievant or affected employees under 5 U.S.C. Chapter 71.

2. A record from this system may be disclosed as a routine use to a member of Congress submitting a request involving a constituent when the constituent has requested assistance from the member of Congress with respect to the subject matter of the record. The member of Congress must provide a copy of the constituent's request for assistance.

3. A record from the system may be disclosed as a routine use to the appropriate local, State or Federal agency when records alone or in conjunction with other information, indicates a violation or potential violation of law whether civil, criminal, or regulatory in nature, and whether arising by general statute or particular program pursuant thereto.

4. A record from this system may be disclosed as a routine use for the purpose of an investigation, settlement of claims, or the preparation and conduct of litigation to (1) a person representing the Department or assisting in such representation; (2) others involved in the matter, their representatives and persons assisting such persons; and (3) witnesses, potential witnesses, their representatives and assistants, and any other persons possessing information pertaining to the matter when it is necessary to obtain information or testimony relevant to the matter.

5. A record from this system may be disclosed as a routine use to DOE contractors in performance of their contracts, and their officers and employees who have a need for the record in the performance of their duties. A record from this system may also be disclosed as a routine use to the Nuclear Regulatory Commission and its officers and employees who have a need for the record in the performance of their duties. Recipients of this information pursuant to this routine use are subject to the same limitations applicable to Department officers and employees under the Privacy Act.

6. A record from this system may be disclosed as a routine use when (1) it is suspected or confirmed that the security or confidentiality of information in the system of records has been compromised; (2) the Department has determined that as a result of the suspected or confirmed compromise there is a risk of harm to economic or property interests, identity theft or fraud, or harm to the security integrity of this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by the name of the concerned employee or complainant or other personal identifier, such as social security number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE records schedules that have been approved by NARA.

SYSTEM MANAGER(S) AND ADDRESS:

Headquarters: Director, Office of Employee Concerns, U.S. Department of Energy, 1000 Independence Avenue, SW., Washington, DC 20585.

Field Offices: The managers of the Office of Employee Concerns at the “System Locations” listed above are the system managers for their respective portions of this system.

NOTIFICATION PROCEDURES:

In accordance with the DOE regulation implementing the Privacy Act, at Title 10, Code of Federal Regulations, Part 1008, a request by an individual to determine if a system of records contains information about him/her should be directed to the U S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records generally are kept at locations where the work is performed. In accordance with the DOE Privacy Act regulation, proper identification is required before a request is processed.

CONTESTING RECORD PROCEDURES:

Same as Notification Procedures above.

RECORD SOURCE CATEGORIES:

The concerned employee or complainant; applicable management officials; program office records; and congressional offices.

SYSTEM EXEMPTED FROM CERTAIN PROVISIONS OF THE ACT:

The system is exempt under subsections 552a(k)(1), (2) and (5) of the Privacy Act to the extent that information within the system meets the criteria of those subsections of the Act. Such information has been exempted from the provisions of subsections (c)(3); 5 U.S.C. Sec. 552a(d); 5 U.S.C. 552a(e)(1) of the Act; see the Department's Privacy Act regulation at 10 CFR Part 1008.

[FR Doc. E9-19768 Filed 8-17-09; 8:45 am]

BILLING CODE 6450-01-P